DEPARTMENT OF ENERGY

Federal Energy Regulatory Commission

[Docket No. RP01-445-000]

Trunkline LNG Company; Notice of Compliance Filing

June 6, 2001.

Take notice that on June 1, 2001, Trunkline LNG Company (Trunkline LNG) tendered for filing a cost and revenue study.

Trunkline LNG states that the purpose of this filing is to comply with Ordering Paragraph (D) of the Commission's November 3, 1997 Order Issuing Certificate, Trunkline LNG Co., 81 FERC ¶ 61,147 (1997), as clarified by the Commission's February 27, 1998 Order Denying Rehearing, 82 FERC ¶ 61,198 (1998).

Trunkline LNG states that copies of this filing are being served on all customers, the parties to the proceeding and appropriate state regulatory agencies.

Any person desiring to be heard or to protest said filing should file a motion to intervene or a protest with the Federal Energy Regulatory Commission, 888 First Street NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14687 Filed 6-11-01; 8:45 am]

BILLING CODE 6717-01-M